NATIONAL ARCHIVES AND RECORDS ADMINISTRATION

[NARA-2016-044]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records not previously authorized for disposal or reduce the retention period of records already authorized for disposal. NARA invites public comments on such records schedules, as required by 44 U.S.C. 3303a(a).

DATES: NARA must receive requests for copies in writing by August 26, 2016. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Commodity Credit Corporation (DAA-0161-2016-0002, 2 items, 2 temporary items). Financial and administrative records related to the cotton transition assistance and cotton ginning cost-sharing programs.

2. Department of Agriculture, Commodity Credit Corporation (DAA-0161-2016-0003, 1 item, 1 temporary item). Records related to approved warehouses for storing agricultural commodities.

3. Department of Agriculture, Commodity Credit Corporation (DAA-0161-2016-0004, 1 item, 1 temporary item). Records related to price support payments for producers of wool and mohair commodities.

4. Department of Agriculture, Commodity Credit Corporation (DAA-0161-2016-0005, 1 item, 1 temporary item). Records related to supply and foreign purchases.

5. Department of Agriculture, Commodity Credit Corporation (DAA-0161-2016-0006, 1 item, 1 temporary item). Records related to dairy indemnity payments.

6. Department of Agriculture, Commodity Credit Corporation (DAA-0161-2016-0007, 1 item, 1 temporary item). Records related to price support programs.

7. Department of Agriculture, Farm Service Agency (DAA-0145-2015-0010, 1 item, 1 temporary item). Master file of an electronic information system that contains records pertaining to the consolidated natural disaster assistance program.

8. Department of Agriculture, Farm Service Agency (DAA-0145-2016-0006, 1 item, 1 temporary item). Records related to loan deficiency payments made through the marketing assistance program.

9. Department of the Army, Agency-wide (DAA-AU-2016-0010, 1 item, 1 temporary item). Master files of an electronic information system that contains records relating to the readiness status of equipment and materiel.

10. Department of the Army, Agency-wide (DAA-AU-2016-0021, 1 item, 1 temporary item). Master files of an electronic information system used to control and monitor a wastewater treatment facility.

11. Department of Defense, Defense Threat Reduction Agency (DAA-0374-2014-0043, 1 item, 1 temporary item). Master files of an electronic information system used for tracking and management of weapon system parts including stock numbers, name assignments, location and related information.

12. Department of Defense, National Reconnaissance Office (N1-525-12-7, 6 items, 5 temporary items). Records related to varied security functions and counterintelligence case files. Proposed for permanent retention are policy and subject files.

13. Department of Defense, Office of the Secretary of Defense (DAA-0330-2016-0006, 1 item, 1 temporary item). Master files of an electronic information system that manages training for military service members and their families in quality-of-life issues such as financial readiness, health and wellness, and deployment and transition.

14. Department of Defense, Office of the Secretary of Defense (DAA-0330-2016-0011, 1 item, 1 temporary item). Master files of an electronic information system used to screen individuals for assignment eligibility as Sexual Assault Prevention and Response Coordinators and Victim Advocates.

15. Department of Defense, Office of the Secretary of Defense (DAA-0330-2016-0013, 4 items, 3 temporary items). Records relating to the Federal Voting Assistance Program including research into new technology, general correspondence, and call center files. Proposed for permanent retention are program guidance and promotional materials.

16. Department of Energy, Naval Nuclear Propulsion Program (DAA-0434-2015-0010, 39 items, 39 temporary items). Records regarding personnel management including acknowledgement forms, badge photographs, dispensary logs, nondisclosure agreements, temporary employment, specialized and other training, labor relations, computer access, and related matters.

17. Department of Health and Human Services, Administration for Children and Families (DAA-0292-2016-0001, 2 items, 1 temporary item). Records relating to the agency welfare waiver program to include minor welfare waiver requests. Proposed for permanent retention are waiver records that document efforts from states to significantly reform welfare programs.

18. Department of Health and Human Services, Administration for Children and Families (DAA-0292-2016-0003, 4 items, 3 temporary items). Records documenting emergency preparedness and response activities, including guidance, emergency response and recovery operation, and incident management team information. Proposed for permanent retention are after-action reports analyzing the response to significant natural or man-made disasters.

19. Department of Health and Human Services, Administration for Children and Families (DAA-0292-2016-0004, 1 item, 1 temporary item). Training records, including technical assistance documents used by agency staff and contracted vendors to assist in employee development and program performance.

20. Department of Health and Human Services, Administration for Children and Families (DAA-0292-2016-0005, 2 items, 2 temporary items). Records relating to rulemaking, including drafts, guidance documents, background materials, regulation logs, and correspondence.

21. Department of Homeland Security, United States Citizenship and Immigration Services (DAA-0566-0016-0006, 8 items, 2 temporary items). Applications, petitions, and requests for deferred action for childhood arrivals when incomplete, unsigned, or rejected for incorrect fees or insufficient funds. Proposed for permanent retention are all other applications, petitions, and requests for deferred action for childhood arrivals (approved, denied, abandoned, withdrawn, terminated, and administratively closed).

22. Department of Homeland Security, United States Citizenship and Immigration Services (DAA-0566-0016-0007, 8 items, 2 temporary items). Applications, petitions, and requests for temporary protected status when incomplete, unsigned, or rejected for incorrect fees or insufficient funds. Proposed for permanent retention are all other applications, petitions, and requests for temporary protected status (approved, denied, abandoned, withdrawn, terminated, and administratively closed).

23. Department of Housing and Urban Development, Office of the Inspector General (DAA-0207-2014-0002, 3 items, 1 temporary item). Includes non-significant case files, copies of reports, administrative correspondence, and working papers and drafts. Proposed for permanent retention are records of the Inspector General including policy and program records, and significant case files.

24. Department of State, Bureau of Counterterrorism (DAA-0059-2014-0012, 8 items, 8 temporary items). Subject and chronological files for the Office of Homeland Security.

25. Department of State, Bureau of Counterterrorism (DAA-0059-2014-0013, 5 items, 5 temporary items). Records of the Office of Terrorist Screening and Interdiction Programs, including non-recordkeeping copies of agreements, working files, and employee-related administrative records.

26. Department of State, Bureau of Counterterrorism (DAA-0059-2014-0014, 2 items, 2 temporary items). Records of the Office of Regional Affairs and Programs, including copies of position papers, policy statements and guidance, and working files.

27. Department of State, Bureau of Human Resources (DAA-0059-2016-0004, 3 items, 1 temporary item). Working files of the Foreign Service Selection Board. Proposed for permanent retention are Board precepts and final reports.

28. Department of State, Bureau of Oceans and International Environmental and Scientific Affairs (DAA-0059-2014-0023, 3 items, 2 temporary items). Records of the Office of Environmental Quality and Transboundary Issues related to application review files to include supporting documentation and comments. Proposed for permanent retention are records compiled during each phase of the permitting process for projects.

29. Department of the Treasury, Internal Revenue Service (DAA-0058-2015-0006, 3 items, 3 temporary items). Routine contract, renewal, and criminal investigation case files of intermediary agreements between the agency and foreign financial institutions.

30. Department of the Treasury, Internal Revenue Service (DAA-0058-2016-0006, 1 item, 1 temporary item). Agency employee wage garnishment data records.

31. Department of the Treasury, Internal Revenue Service (DAA-0058-2016-0014, 1 item, 1 temporary item). Master files of an electronic information system used by the agency and its partners to produce advertising materials primarily related to refundable tax credits.

32. Department of the Treasury, Internal Revenue Service (DAA-0058-2016-0015, 1 item, 1 temporary item). Master files of an electronic information system used to support the individual tax return audit appeal process.

33. Commodity Futures Trading Commission, Agency-wide (DAA-0180-2016-0002, 3 items, 3 temporary items). Records of reviews and audits of compliance with regulations and laws by market participants.

34. General Services Administration, Agency-wide (DAA-0269-2016-0010, 2 items, 1 temporary item). Routine security program records. Proposed for permanent retention are records related to the collection and reporting of security programs, including inspection reports, regulations and related correspondence.

35. General Services Administration, Agency-wide (DAA-0269-2016-0011, 3 items, 2 temporary items). Information technology support program records. Proposed for permanent retention are records related to standards and specifications published by the General Services Administration.

36. General Services Administration, Agency-wide (DAA-0269-2016-0012, 5 items, 2 temporary items). Records related to professional services performed for other agencies. Proposed for permanent retention are records related to Presidential transitions, oversight responsibilities associated with the Federal Advisory Committee Act, and management of Federal regulations and manuals.

37. General Services Administration, Agency-wide (DAA-0269-2016-0013, 5 items, 5 temporary items). Records related to customer service and business development.

38. Securities and Exchange Commission, Office of Compliance Inspections and Examinations (DAA-0266-2015-0003, 2 items, 2 temporary items). Master file of an electronic information system containing records relating to nationwide examinations of entities regulated and registered by the Securities and Exchange Commission.

Laurence Brewer,
Chief Records Officer for the U.S. Government.

[FR Doc. 2016-17833 Filed 7-26-16; 8:45 am]

BILLING CODE 7515-01-P